DEPARTMENT OF THE INTERIOR

Bureau of Indian Affairs

Draft Environmental Impact Statement for the Confederated Tribes of the Umatilla Indian Reservation's Proposed Coyote Business Park, Umatilla County, OR

AGENCY: Bureau of Indian Affairs, Interior.

ACTION: Notice.

SUMMARY: This notice advises the public that the Bureau of Indian Affairs (BIA) intends to file a Draft Environmental Impact Statement (DEIS) with the U.S. Environmental Protection Agency for the proposed lease and development of an industrial park of up to 142 acres of land held in trust by the United States for the benefit of the Confederated Tribes of the Umatilla Indian Reservation (CTUIR) in Umatilla County, Oregon, and that the DEIS is now available for public review. The purpose of the proposed project, the Coyote Business Park, is to help meet economic development needs on the Umatilla Indian Reservation. This notice also announces a hearing for the public to provide comments on the DEIS.

DATES: Written comments on the DEIS must arrive by January 30, 2006. The public hearing will be held January 19, 2006, starting at 7 p.m.

ADDRESSES: You may mail written comments to Jerry L. Lauer, Acting Superintendent, Bureau of Indian Affairs, Umatilla Agency, P.O. Box 520, Pendleton, Oregon, 97801; or hand carry written comments to Mr. Lauer at the Umatilla Agency, 46807 B Street, Mission, Oregon.

The public meeting will be held at the Tamastslikt Cultural Institute, 72789 Highway 331, Pendleton, OR 97801.

To obtain a copy of the DEIS, please contact Jerry L. Lauer by mail at the above mailing address or by telephone at the number provided below. Copies of the DEIS are available for public review at the Umatilla Agency (street address above), at the Pendleton Public Library, 500 SW Dorian, Pendleton, Oregon, and on the Web site http://www/efw/bpa.gov/cgi-bin/PSA/NEPA/ SUMMARIES/Coyote Business Park. Copies of the DEIS have also been sent to agencies and individuals who participated in the scoping process and to all others who had requested copies.

FOR FURTHER INFORMATION CONTACT: Jerry L. Lauer, (541) 278-3786.

SUPPLEMENTARY INFORMATION: The DEIS, prepared with the cooperation of the Bonneville Power Administration (BPA) and CTUIR, analyzes the impacts of the proposed leasing of Indian trust land for the purpose of constructing and managing a light industrial and commercial business park. The proposed Coyote Business Park would be situated on 142 contiguous acres of a 520 acre parcel of trust land located south of Interstate 84 at Exit 216 and west of South Market Road, approximately 7 miles east of Pendleton, Oregon, on the Umatilla Indian Reservation.

The proposed action is to construct infrastructure for the business park, including domestic water service, sanitary sewer service, storm water drainage, roads, and utilities to lots which would be leased by the CTUIR to individual business owners for the construction of light industrial and/or commercial facilities. The CTUIR may also construct such facilities for lease to private operators. Anticipated light industrial operations include warehouses or distribution facilities and assembly of previously manufactured components.

Water under the proposed action would be supplied to the business park from the Mission Water System. Wastewater would be handled by connection to the Mission Wastewater Collection System, which is treated through a cooperative agreement by the city of Pendleton. Storm water drainage would be retained on-site. Access to the site would be from South Market Road, which would be improved to an industrial standard and provided with a dedicated right hand turn lane into the site. Commercial utilities would be provided through extensions of existing services which are located either adjacent to, or within one-fourth mile of the site. Support structures would also be replaced on the high-voltage BPA transmission line that crosses the site.

Potential impacts to Patawa Creek as well as nearby residences have been considered in the design of the business Park. Mitigation includes a storm water drainage collection system that isolates storm water from Patawa Creek; creation of a Riparian Management Zone along Patawa Creek to establish native vegetation and reduce sedimentation and erosion; incorporation of best management practices to reduce impacts to groundwater; incorporation of landscaping and night lighting design to reduce visual impact and night light pollution; and construction of a new bridge across Patawa Creek to provide access to the Oregon Department of Transportation's gravel shed and the Tribal Environmental Recovery Facility, thus eliminating the need for the existing gravel road to these facilities.

The DEIS analyzes the proposed action (Alternative E), the no action alternative (A) and three other action alternatives (B, C, and D). The proposed action is the preferred alternative. The action alternatives differ primarily in: (1) The size (21-142 acres) of the proposed business park; (2) whether domestic water would be provided through the drilling of a new well or through the extension of an existing community water system; and (3) whether sanitary sewer service would be provided by installation of septic tanks and drain fields or by connection to an existing municipal sewer system.

Public participation has occurred throughout the development of this DEIS. The Notice of Intent was published in the Federal Register on January 9, 2002 (66 FR 1191). A public scoping meeting was held in Pendleton, Oregon, on January 23, 2003, to solicit comments and ideas. On November 6, 2003, an open house was held in Pendleton, Oregon, to update the public on the National Environmental Policy Act compliance process for the proposed project. All comments presented throughout the process have been considered.

Public Comment Availability

Comments, including names and addresses of respondents, will be available for public review at the mailing address shown in the ADDRESSES section during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR Parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.1.

Dated: December 8, 2005.
Michael D. Olsen,
Acting Principal Deputy Assistant Secretary—Indian Affairs.

[FR Doc. E5-7413 Filed 12-15-05; 8:45 am]

BILLING CODE 4310-W7-P